DEPARTMENT OF TRANSPORTATION

Maritime Administration

[Docket Number: MARAD-2002-13047]

Requested Administrative Waiver of the Coastwise Trade Laws

AGENCY: Maritime Administration, Department of Transportation.

ACTION: Invitation for public comments on a requested administrative waiver of the Coastwise Trade Laws for the vessel LADYHAWKE.

SUMMARY: As authorized by Public Law 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Public Law 105-383 and MARAD's regulations at 46 CFR Part 388 (65 FR 6905; February 11, 2000) that the issuance of the waiver will have an unduly adverse effect on a U.S.-vessel builder or a business that uses U.S.-flag vessels, a waiver will not be granted.

DATES: Submit comments on or before September 11, 2002.

ADDRESSES: Comments should refer to docket number MARAD-2002-13047. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW., Washington, DC 20590. Telephone 202-366-2307.

SUPPLEMENTARY INFORMATION: Title V of Public Law 105-383 provides authority to the Secretary of Transportation to administratively waive the U.S.-build requirements of the Jones Act, and other statutes, for small commercial passenger vessels (no more than 12 passengers). This authority has been delegated to the Maritime Administration per 49 CFR § 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR Part 388.

Vessel Proposed for Waiver of the U.S.-build Requirement

(1) Name of vessel and owner for which waiver is requested. Name of vessel: LADYHAWKE. Owner: Steve Kirven.

(2) Size, capacity and tonnage of vessel. According to the applicant: “The length of vessel while on hover is 39 feet and off hover is 35 feet. The width of vessel while hovering is 19 feet and off hover is 14 feet. The height of vessel while hovering is 11 feet and off hover is 8 feet. The tonnage is 8.15 tons. Since this is not a normal hull design, I am not sure how tonnage measurements were take. The gross all up weight on vessel is 18,000 lbs.”

(3) Intended use for vessel, including geographic region of intended operation and trade. According to the applicant: The intended use of the vessel is to operate as a tour boat offering tours in shallow waters where other vessels cannot operate. This craft rides on a cushion of air 30 inches above the surface producing no wake and having no negative impact on the environment.” “The geographic region for the operation is the Miami, Biscayne Bay, and Keys area, located in Dade and Monroe Counties in the state of Florida. I would be providing tours in and around many of the small islands and areas not accessible by other conventional boats. There are no existing commercial hovercraft operators in this area.”

(4) Date and Place of construction and (if applicable) rebuilding. Date of construction: 1994. Place of construction: Australia.

(5) A statement on the impact this waiver will have on other commercial passenger vessel operators. According to the applicant: “The insurance of this waiver will not impact other commercial passenger vessel operators, as there are no existing commercial hovercraft operators in this area. I will be providing tours in shallow water areas where other commercial convention vessels cannot operate. The only other commercial hovercraft operation in the United States is located in Alaska. In the area I propose to operate, there are several tour boat operators running sailing tours, deep sea fishing, dinner cruises, dive boats and thrill rides. None of these vessels can operate where I would be providing scenic tours.”

(6) A statement on the impact this waiver will have on U.S. shipyards. According to the applicant: “This waiver will have no impact on existing U.S. shipyards. There are several builders of recreational hovercraft throughout the United States building 1 and 2 passenger craft. My research indicates there are no commercial builders of hovercraft in the 12-20 passenger range that can be U.S. Coast Guard inspected. A proven design is imperative. There are builders of much larger craft that are used by the U.S. military such as General Dynamics and Bell Textron.”

Dated: August 6, 2002.
By Order of the Maritime Administrator.
Joel C. Richard,
Secretary, Maritime Administration.

[FR Doc. 02-20365 Filed 8-9-02; 8:45 am]

BILLING CODE 4910-81-P